DEPARTMENT OF LABOR

Employment and Training Administration

[TA-W-61,265]

O'Bryan Brothers, Inc., Including On-Site Leased Workers of Grapevine Staffing LLC, Leon, IA; Amended Notice of Revised Determination on Reconsideration

In accordance with Section 223 of the Trade Act of 1974 (19 U.S.C. 2273), and Section 246 of the Trade Act of 1974 (26 U.S.C. 2813), as amended, the Department of Labor issued a Notice of Revised Determination on Reconsideration on May 16, 2007. The notice was published in the Federal Register on May 24, 2007 (72 FR 29183).

At the request of the State agency, the Department reviewed the Notice of Revised Determination on Reconsideration for workers of the subject firm. The workers performed sewing functions and the production of marker patterns.

New information shows that leased workers of Grapevine Staffing LLC were employed on-site at the Leon, Iowa location of O'Bryan Brothers, Inc. The Department has determined that these workers were sufficiently under the control of O'Bryan Brothers, Inc. to be considered leased workers.

Based on these findings, the Department is amending this certification to include leased workers of Grapevine Staffing LLC working on-site at the Leon, Iowa location of the subject firm.

The intent of the Department's certification is to include all workers employed at O'Bryan Brothers, Inc., Leon, Iowa who were adversely impacted by shifting sewing functions and the production of marker patterns to Mexico.

The amended notice applicable to TA-W-61,265 is hereby issued as follows:

All workers of O'Bryan Brothers, Inc., including on-site leased workers of Grapevine Staffing LLC, Leon, Iowa, who became totally or partially separated from employment on or after April 6, 2006, through May 16, 2009, are eligible to apply for adjustment assistance under Section 223 of the Trade Act of 1974, and are also eligible to apply for alternative trade adjustment assistance under Section 246 of the Trade Act of 1974.

Signed at Washington, DC this 13th day of June 2008.
Linda G. Poole,
Certifying Officer, Division of Trade Adjustment Assistance.

[FR Doc. E8-13974 Filed 6-19-08; 8:45 am]

BILLING CODE 4510-FN-P